DEPARTMENT OF COMMERCE

Patent and Trademark Office

Patent and Trademark Financial Transactions

ACTION: Proposed collection; comment request.

SUMMARY: The United States Patent and Trademark Office (USPTO), as part of its continuing effort to reduce paperwork and respondent burden, invites the general public and other Federal agencies to take this opportunity to comment on the continuing information collection, as required by the Paperwork Reduction Act of 1995, Public Law 104-13 (44 U.S.C. 3506(c)(2)(A)).

DATES: Written comments must be submitted on or before October 20, 2008.

ADDRESSES: You may submit comments by any of the following methods:

• E-mail: Susan.Fawcett@uspto.gov. Include “0651-0043 comment” in the subject line of the message.

• Fax: 571-273-0112, marked to the attention of Susan Fawcett.

• Mail: Susan K. Fawcett, Records Officer, Office of the Chief Information Officer, Customer Information Services Group, Public Information Services Division, United States Patent and Trademark Office, P.O. Box 1450, Alexandria, VA 22313-1450.

• Federal Rulemaking Portal: http://www.regulations.gov.

FOR FURTHER INFORMATION CONTACT: Requests for additional information should be directed to Tamara McClure, Office of Finance, United States Patent and Trademark Office, P.O. Box 1450, Alexandria, VA 22313-1450; by telephone at 571-272-6345; or by e-mail to Tamara.McClure@uspto.gov.

SUPPLEMENTARY INFORMATION:

I. Abstract

Under 35 U.S.C. 41 and 15 U.S.C. 1113, the United States Patent and Trademark Office (USPTO) charges fees for processing and other services related to patents, trademarks, and information products. Customers may submit payments to the USPTO by several methods, including credit card, deposit account, electronic funds transfer (EFT), and paper check transactions. The provisions of 35 U.S.C. 41 and 15 U.S.C. 1113 are implemented in 37 CFR 1.16-1.28, 2.6-2.7, and 2.206-2.209.

This information collection includes the Credit Card Payment Form (PTO-2038), which provides the public with a convenient way to submit a credit card payment for fees related to a patent, trademark, or information product. Customers may also submit credit card payments via the Electronic Credit Card Payment Form (PTO-2231) when using online systems through the USPTO Web site for paying fees related to patents, trademarks, or information products.

The USPTO will not include credit card information submitted using the credit card payment forms among the patent or trademark records open to public inspection.

Customers may establish a deposit account for making fee payments by completing a Deposit Account Application Form (PTO-2232) and sending the required information, initial deposit, and service fee to the USPTO. Deposit accounts eliminate the need to submit a check, credit card information, or other form of payment for each transaction with the USPTO. Additionally, in the event that a fee amount due is miscalculated, customers may authorize the USPTO to charge any remaining balance to the deposit account and therefore avoid the potential consequences of underpayment. As customers use their deposit accounts to make payments, they may deposit funds to replenish their accounts by mailing a check to the USPTO or making a deposit online via EFT using the Electronic Deposit Account Replenishment Form (PTO-2233) available at the USPTO Web site. Replenishments may not be made by credit card. Customers may also close their deposit accounts by submitting a written request or by using the Deposit Account Closure Request Form (PTO-2234).

In addition to credit cards and deposit accounts, customers may also use EFT to make online fee payments to the USPTO. Customers must first establish a user profile with their banking information by submitting the EFT User Profile Form (PTO-2236) through the USPTO Web site. Once their profile is created, customers may use their User ID and password to perform EFT transactions.

Under 37 CFR 1.26 and 2.209, the USPTO may refund fees paid by mistake or in excess of the required amount. For refund amounts of $25 or less, customers must submit a written request to the Refund Branch of the USPTO Office of Finance.

In order to access and manage their financial activity records online, customers may create a Financial Profile through the USPTO web site. Customers create a profile by registering a username and password, providing contact information, and specifying the types of notifications and alerts they would like to receive. After establishing a Financial Profile, customers may then add the relevant account information to the profile in order to track their credit card, deposit account, and EFT transactions with the USPTO.

II. Method of Collection

By mail, facsimile, hand delivery, or electronically to the USPTO.

III. Data

OMB Number: 0651-0043.

Form Number(s): PTO-2038, PTO-2231, PTO-2232, PTO-2233, PTO-2234, PTO-2236.

Type of Review: Revision of a currently approved collection.

Affected Public: Individuals or households; businesses or other for-profits; and not-for-profit institutions.

Estimated Number of Respondents: 1,929,205 responses per year.

Estimated Time per Response: The USPTO estimates that it will take the public approximately two to six minutes (0.03 to 0.10 hours) to gather the necessary information, prepare, and submit the items in this collection.

Estimated Total Annual Respondent Burden Hours: 58,166 hours per year.

Estimated Total Annual Respondent Cost Burden: $2,617,470 per year. The USPTO expects that 75% of the submissions for this information collection will be prepared by fee administrators/coordinators and that 25% of the submissions will be prepared by paraprofessionals. Using those proportions and the estimated rates of $30 per hour for fee administrators/coordinators and $90 per hour for paraprofessionals, the USPTO estimates that the average hourly rate for all respondents will be approximately $45 per hour. Using this estimated rate of $45 per hour, the USPTO estimates that the respondent cost burden for submitting the information in this collection will be approximately $2,617,470 per year.

Item | Estimated time for response (minutes) | Estimated annual responses | Estimated annual burden hours
Credit Card Payment Form (PTO-2038) | 2 | 863,389 | 25,902
Electronic Credit Card Payment Form (PTO-2231) | 2 | 1,017,322 | 30,520
Deposit Account Application Form (PTO-2232) | 2 | 298 | 9
Deposit Account Replenishment | 2 | 20,837 | 625
Electronic Deposit Account Replenishment Form (PTO-2233) | 2 | 17,664 | 530
Deposit Account Closure Request Form (PTO-2234) | 4 | 132 | 9
EFT User Profile Form (PTO-2236) | 2 | 2,850 | 86
Refund Request | 4 | 6,213 | 435
Financial Profiles | 6 | 500 | 50
Total |  | 1,929,205 | 58,166

Estimated Total Annual Non-Hour Respondent Cost Burden: $248,603. There are no capital start-up costs or maintenance costs associated with this information collection. However, this collection does have associated service fees for deposit accounts and returned payments, postage costs for mailing submissions to the USPTO, and recordkeeping costs related to electronic credit card payments and electronic deposit account replenishments.

There are service fees for setting up a deposit account at the USPTO, for not maintaining the minimum balance required for the deposit account, and for returned payments. The service charge to establish a deposit account is $10, and the USPTO estimates that it processes 298 Deposit Account Application Forms annually, for a total of $2,980 per year. There is also a $25 service charge for deposit accounts that are below the minimum balance ($1,000 minimum balance for an unrestricted deposit account or $300 minimum balance for a restricted deposit account) at the end of the month. The USPTO estimates that it assesses 4,000 of these low balance charges annually, for a total of $100,000 per year. There is a $50 service charge for processing a payment refused (including a check returned “unpaid”) or charged back by a financial institution. The USPTO estimates that it assesses 456 of these returned payment charges annually, for a total of $22,800 per year. The total estimated service fees for this collection are $125,780 per year.

Customers may incur postage costs when submitting the Credit Card Payment Form and other paper forms or requests to the USPTO by mail. Customers generally send the Credit Card Payment Form to the USPTO along with other documents related to the fee or service being paid for by credit card, but some customers may submit just the Credit Card Payment Form without additional supporting documents. The USPTO estimates that roughly 5 percent of the 863,389 paper Credit Card Payment Forms submitted annually may be mailed in by themselves, approximately 43,169 per year. The USPTO estimates that it will receive an additional 27,480 submissions per year that may be mailed, including Deposit Account Application Forms, Deposit Account Replenishments, Deposit Account Closure Requests, and Refund Requests, for a total of 70,649 mailed submissions per year. The USPTO estimates that the first-class postage cost for a mailed submission will be 42 cents, for a total postage cost of approximately $29,673 per year.

Customers using the Electronic Credit Card Payment Form or the Electronic Deposit Account Replenishment Form may incur recordkeeping costs from printing a copy of the electronic receipt confirming their successful online transaction. The USPTO estimates that it will take 5 seconds (0.001 hours) to print a copy of the confirmation receipt and that approximately 1,034,986 submissions per year will use the Electronic Credit Card Payment Form or the Electronic Deposit Account Replenishment Form, for a total recordkeeping burden of 1,035 hours per year. Using the paraprofessional rate of $90 per hour, the USPTO estimates that the recordkeeping cost associated with this collection will be approximately $93,150 per year.

The total non-hour respondent cost burden for this collection in the form of service fees, postage costs, and recordkeeping costs is estimated to be $248,603 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: August 14, 2008.
Susan K. Fawcett,
Records Officer, USPTO, Office of the Chief Information Officer, Customer Information Services Group, Public Information Services Division.

[FR Doc. E8-19375 Filed 8-20-08; 8:45 am]

BILLING CODE 3510-16-P